DEPARTMENT OF ENERGY

Federal Energy Regulatory Commission

[Project No. 2337-077]

PacifiCorp Energy; Notice of Application Tendered for Filing With the Commission and Establishing Procedural Schedule for Licensing and Deadline for Submission of Final Amendments

Take notice that the following hydroelectric application has been filed with the Commission and is available for public inspection.

a. Type of Application: New Major License.

b. Project No.: 2337-077.

c. Date Filed: December 30, 2016.

d. Applicant: PacifiCorp Energy.

e. Name of Project: Prospect No. 3 Hydroelectric Project.

f. Location: On the South Fork Rogue River, in Jackson County, Oregon. The project occupies 38.1 acres of United States lands within the Rogue River-Siskiyou National Forest under the jurisdiction of the U.S. Forest Service (Forest Service).

g. Filed Pursuant to: Federal Power Act, 16 U.S.C. 791(a)-825(r).

h. Applicant Contact: Steve Albertelli, Relicensing Project Manager, PacifiCorp Energy, 925 South Grape Street, Building 5, Medford, OR 97501; (541) 776-6676 or email at steve.albertelli@pacificorp.com.

i. FERC Contact: Dianne Rodman at (202) 502-6077 or email at dianne.rodman@ferc.gov.

j. This application is not ready for environmental analysis at this time.

k. Project Description: The existing project consists of: (1) A 24-foot-high, 172-foot-long concrete diversion dam with an integrated 98-foot-long ungated, uncontrolled ogee spillway section; (2) a 1-acre reservoir that extends 550 feet upstream from the dam with a gross storage capacity of 19 acre-feet at normal full pool elevation of 3,375 feet above sea level; (3) an 18-foot-wide intake structure at the north end of the dam on the right bank with trash rack; (4) a 15,894-foot-long flow conveyance system (project waterway) consisting of: A 273-foot-long concrete-lined canal fitted with a 25-foot-long, 9.75-foot-wide fish screen; a 66-inch-diameter, 5,448-foot-long woodstave pipe; a 5,805-foot-long concrete-lined canal; a 5-foot-wide, 6.5-foot-high, 698-foot-long concrete-lined horseshoe-shaped tunnel; a 416-foot-long canal to the forebay with a 2,486-foot-long side channel spillway discharging to Daniel Creek; and a 66-inch to 48-inch-diameter, 3,254-foot-long riveted steel penstock; (5) a powerhouse containing one vertical-shaft Francis-type turbine with an installed capacity of 7.2 megawatts; (6) a 20-foot-long, 20-foot-wide, 5-foot-deep concrete tailrace; (7) a 66-inch-diameter, 887-foot-long wood-stave inverted siphon that routes flow from the tailrace to the non-project Middle Fork Canal; (8) a 6.97-mile-long, 69-kilovolt transmission line interconnecting at the Prospect Central substation; (9) an 86-foot-long, 15-pool concrete pool-and-weir ladder to provide upstream fish passage past the dam; and (10) appurtenant facilities. The project produces an average of 35.05 gigawatt-hours annually.

PacifiCorp proposes to: Improve fish ladder function by constructing an auxiliary bypass flow system, realigning and extending the existing fish bypass return pipe, and narrowing the weir notches; replace the existing woodstave pipe and inverted wooden siphon with steel structures to eliminate leakage; rehabilitate the temporary vehicle-access bridge over the new steel pipe to meet current Forest Service standards; construct a road spur to facilitate pass-through of materials dredged from the reservoir to the bypassed reach; upgrade the six existing wildlife crossings of the project waterway's canal by widening the crossings and constructing five new wildlife crossings; and install a communications link on the U.S. Geological Survey's South Fork Rogue gage.

PacifiCorp also proposes to increase the project's minimum flow releases and ramping rates limits, as well as extending the project boundary to include the inverted siphon and access roads.

l. Locations of the Application: A copy of the application is available for review at the Commission in the Public Reference Room or may be viewed on the Commission's Web site at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | March 2017.
Filing of recommendations, preliminary terms and conditions, and fishway prescriptions | April 2017.
Commission issues Environmental Assessment (EA) | October 2017.
Comments on EA | November 2017.
Modified terms and conditions | January 2018.

o. Final amendments to the application must be filed with the Commission no later than 30 days from the issuance date of the notice of ready for environmental analysis.

Dated: January 6, 2017.
Kimberly D. Bose,
Secretary.

[FR Doc. 2017-00561 Filed 1-11-17; 8:45 am]

BILLING CODE 6717-01-P